DEPARTMENT OF ENERGY

Federal Energy Regulatory Commission

[Docket No. EL04-125-000, et al.]

Connexus Energy, et al.; Electric Rate and Corporate Filings

November 19, 2004.

The following filings have been made with the Commission. The filings are listed in ascending order within each docket classification.

1. Connexus Energy

[Docket No. EL04-125-000]

Take notice that on August 13, 2004, Connexus Energy (Connexus) filed a request for waivers of certain of the Commission's regulations applicable to public utilities under the Federal Power Act and blanket authority under certain statutory provisions.

Comment Date: 5 p.m. eastern time on November 29, 2004.

2. Madison Gas and Electric Company

[Docket No. ER00-586-004]

Take notice that on November 15, 2004, Madison Gas and Electric Company (MGE) submitted for filing an amendment to its November 9, 2004, updated market analysis filing in Docket No. ER00-586-000. MGE states that the amendment consists of MGE's Market-Based Power Sales Tariff (Tariff), revised to incorporate the Commission's Market Behavior Rules adopted by the Commission in Investigation of Terms and Conditions of Public Utility Market-Based Rate Authorizations, 105 FERC ¶ 61,218. MGE also states that the Tariff also includes non-substantive pagination and designation revisions.

Comment Date: 5 p.m. eastern time on December 6, 2004.

3. California Independent System Operator Corporation; Pacific Gas and Electric Company; San Diego Gas & Electric System Operator Corporation

[Docket Nos. ER01-313-006, ER01-424-006, and ER01-424-006]

Take notice that on November 15, 2004, the California Independent System Operator Corporation (ISO) filed a refund report in compliance with the Commission's order in California Independent System Operator Corporation, 106 FERC ¶ 61,032 (2004).

Comment Date: 5 p.m. eastern time on December 6, 2004.

4. ISO New England Inc.

[Docket No. ER02-2153-009]

Take notice that on November 15, 2004, ISO New England Inc. (ISO) submitted a compliance report on Standard Market Design pursuant to the Commission's order issued July 31, 2002 in Docket No. ER02-2153-000, ISO New England Inc., 100 FERC ¶ 61,130.

ISO states that copies of the filing have been served upon all parties to this proceeding, the New England utility regulatory agencies, and electronically upon the New England Power Pool participants.

Comment Date: 5 p.m. eastern time on December 6, 2004.

5. Midwest Independent Transmission System Operator, Inc.

[Docket No. ER04-106-005]

Take notice that on November 15, 2004, the Midwest Independent Transmission System Operator, Inc. (Midwest ISO) submitted a compliance filing pursuant to the Commission's Order issued September 16, 2004 in Midwest Independent Transmission System Operator, Inc., 108 FERC ¶ 61,236 (2004). The Midwest ISO requests an effective date of October 31, 2003.

The Midwest ISO states that it has electronically served a copy of this filing, with its attachments, upon all Midwest ISO Members, Member representatives of Transmission Owners and Non-Transmission Owners, the Midwest ISO Advisory Committee participants, Policy Subcommittee participants, as well as all State commission within the region. In addition, the Midwest ISO states that the filing has been electronically posted on the Midwest ISO's Web site at http://www.midwestiso.org under the heading “Filings to FERC” and that it will provide hard copies upon request.

Comment Date: 5 p.m. eastern time on November 29, 2004.

6. PJM Interconnection, L.L.C.

[Docket No. ER04-893-002]

Take notice that on November 15, 2004, PJM Interconnection, L.L.C. (PJM) submitted an executed network integration transmission service agreement (NITSA) with the City of Batavia, Illinois (Batavia) in compliance with the Commission's order issued September 10, 2004, in Docket Nos. ER04-893-000 and 001.

PJM states that it has served a copy of this letter and its attachments on all persons on the Commission's official services list for Docket No. ER04-893-000 and on counsel for ComEd and Batavia.

Comment Date: 5 p.m. eastern time on December 6, 2004.

7. Ohio Valley Electric Corporation System Operator, Inc.

[Docket No. ER04-1026-001]

Take notice that on November 19, 2004, Ohio Valley Electric Corporation (OVEC) tendered for filing an amendment to its July 16, 2004, filing in Docket No. ER04-1026-000, an Amended and Restated Inter-Company Power Agreement among OVEC and certain other companies named within the agreement as “Sponsoring Companies”. OVEC has requested an effective date of March 13, 2006.

OVEC states that copies of the filing were served on Allegheny Energy Supply Company, LLC, Appalachian Power Company, The Cincinnati Gas & Electric Company, Columbus Southern Power Company, The Dayton Power and Light Company, FirstEnergy Generation Corp., Indiana Michigan Power Company, Kentucky Utilities Company, Louisville Gas and Electric Company, Monongahela Power Company, Ohio Power Company, Southern Indiana Gas and Electric Company, the Utility Regulatory Commission of Indiana, the Public Service Commission of Kentucky, the Public Service Commission of Maryland, the Public Service Commission of Michigan, the Public Utilities Commission of Ohio, the Public Utility Commission of Pennsylvania, Tennessee Regulatory Authority, the State Corporation Commission of Virginia and the Public Service Commission of West Virginia.

Comment Date: 5 p.m. eastern time on November 29, 2004.

8. PJM Interconnection, L.L.C.

[Docket No. ER05-214-000]

Take notice that on November 15, 2004, PJM Interconnection, L.L.C. (PJM) submitted for filing amendments to the PJM Open Access Transmission Tariff and the PJM Amended and Restated Operating Agreement to clarify when and how nodal settlements for eligible retail access customers, subject to Attachment F-1, can be accommodated. PJM requests an effective date of January 15, 2005.

PJM states that copies of this filing have been served on all PJM members and the utility regulatory commissions in the PJM region.

Comment Date: 5 p.m. eastern time on December 6, 2004.

9. Midwest Independent Transmission System Operator, Inc.

[Docket No. ER05-215-000]

Take notice that on November 15, 2004, the Midwest Independent Transmission System Operator, Inc. (Midwest ISO) submitted an unexecuted Interconnection and Operating Agreement by and between Prairie State Generating Company, LLC and Illinois Power Company. The Midwest ISO requests an effective date of November 16, 2004.

Midwest ISO states that a copy of this filing was served on the parties to the Interconnection Agreement.

Comment Date: 5 p.m. eastern time on December 6, 2004.

10. Allegheny Power

[Docket No. ER05-216-000]

Take notice that on November 15, 2004, Allegheny Power filed a Notice of Cancellation of its FERC Electric Tariff, Original Volume No. 1, effective February 1, 2005.

Allegheny Power states that a copy of the Notice of Cancellation has been served upon all persons with currently effective service agreements under the rate schedule referred to above.

Comment Date: 5 p.m. eastern time on December 6, 2004.

11. Allegheny Power

[Docket No. ER05-217-000]

Take notice that on November 15, 2004, Allegheny Power filed a Notice of Cancellation of its FERC Electric Tariff, Original Volume No. 2, effective February 1, 2005.

Allegheny Power states that a copy of the Notice of Cancellation has been served upon all persons with currently effective service agreements under the rate schedule referred to above.

Comment Date: 5 p.m. eastern time on December 6, 2004.

12. Allegheny Power

[Docket No. ER05-218-000]

Take notice that on November 15, 2004, Allegheny Power filed a Notice of Cancellation of its FERC Electric Tariff, Original Volume No. 4, effective February 1, 2005.

Allegheny Power states that a copy of the Notice of Cancellation has been served upon all persons with currently effective service agreements under the rate schedule referred to above.

Comment Date: 5 p.m. eastern time on December 6, 2004.

13. Allegheny Power

[Docket No. ER05-219-000]

Take notice that on November 15, 2004, Allegheny Power filed a Notice of Cancellation of its FERC Electric Tariff, Original Volume No. 3, effective February 1, 2005.

Allegheny Power states that a copy of the Notice of Cancellation has been served upon all persons with currently effective service agreements under the rate schedule referred to above.

Comment Date: 5 p.m. eastern time on December 6, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3440 Filed 12-1-04; 8:45 am]

BILLING CODE 6717-01-P